DEPARTMENT OF HEALTH AND HUMAN SERVICES

Administration for Community Living

Agency Information Collection Activities; Submission for OMB Review; Public Comment Request; of the State Councils on Developmental Disabilities (Councils) State Plan OMB Control Number 0985-0029

AGENCY: Administration for Community Living, HHS.

ACTION: Notice.

SUMMARY: The Administration for Community Living is announcing that the proposed collection of information listed above has been submitted to the Office of Management and Budget (OMB) for review and clearance as required under section 506(c)(2)(A) of the Paperwork Reduction Act of 1995. This 30-day notice collects comments on the information collection requirements related to the Developmental Disabilities State Plan OMB control number 0985-0029.

DATES: Submit written comments on the collection of information by April 17, 2023.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Sara Newell-Perez, 202-795-7413 or Sara.Newell-Perez@acl.hhs.gov.

SUPPLEMENTARY INFORMATION: In compliance with 44 U.S.C. 3507, ACL has submitted the following proposed collection of information to OMB for review and clearance of the Developmental Disabilities State Plan OMB control number 0985-0029. The State Councils on Developmental Disabilities (Councils) are authorized in Subtitle B, of the Developmental Disabilities Assistance and Bill of Rights Act of 2000 (DD Act), as amended, [42 U.S.C. 15001 et seq.] (The DD Act). The DD Act requires Councils to submit a five-year State plan. Section 124(a) [42 U.S.C. 15024(a)], states that: Any State desiring to receive assistance under this subtitle shall submit to the Secretary, and obtain approval of, a 5-year strategic State plan under this section. The DD Act regulations outlines additional guiding requirements in 45 CFR part 1326.30(a), which states that: In order to receive Federal financial assistance under this subpart, each State Developmental Disabilities Council must prepare and submit to the Secretary, and have in effect, a State plan which meets the requirements of sections 122 and 124 of the Act (42 U.S.C. 6022 and 6024) and these regulations.

The Council is responsible for the development, and submission of the State plan as well as implementation of the activities described in the plan. The Council updates the State plan annually during the five years. The State plan provides information on individuals with developmental disabilities in the State, and a description of the services available to them and their families. The State plan sets forth the goals and specific objectives to be achieved by the State Council in pursuing systems change and capacity building that result in empowering people with developmental disabilities to lead independent lives within the community. It describes State priorities, strategies, and actions, and the allocation of funds to meet these goals and objectives. Additionally, the data collected in the State plan and submitted to ACL is also used to comply with the GPRA Modernization Act of 2010 (GPRAMA).

The State Plan is used in three ways. First, it provides a framework for citizens, State governments, and other key stakeholder to provide input and comments to help shape the goals and objectives during the development stage. Secondly, it is used by each Council as a planning document to operationalize its goals and strategies. Finally, it provides information the Department needs for monitoring and providing technical assistance to ensure the Council is compliant.

This IC also adds elements to ensure ACL is gathering necessary and relevant demographic information to assess diversity and equity in support of the Executive Order on Advancing Racial Equity and Support for Underserved Communities Through the Federal Government and the Executive Order on Advancing Equality for Lesbian, Gay, Bisexual, Transgender, Queer, and Intersex Individuals. On this issue, AoD will follow ACL approved policy for the inclusion of sexual orientation and gender identity (SOGI) data elements.

Comments in Response to the 60-Day Federal Register Notice

A notice published in the Federal Register (87 FR 73559) on November 30, 2022. During the 60-day notice there were four public comments submitted, each comment included a range of topics. ACL lists the commenter by topic and provides response in the included table.

Data collection form | Comment | ACL response
State Plan (Commenters 1-4) | Burden hours do not accurately reflect the work of the Council and should be increased | Burden calculation was based on the average entry estimates shared by a sample size of Councils. While Councils range in staffing size, number of goals and activities they include in their State Plans. Past workgroups comprised of DD Council staff developed the existing State plan template after much consensus building conversations and a thorough vetting process. ACL will continue to have conversations on areas for potential streamlining as part of our continuous quality improvement efforts. Areas where the reporting platform can assist in streamlining will be taken under consideration.
State Plan (Commenter 1, 3) | Some of the required data points are difficult to collect and do not always correlate 1:1 to demographic data collected or reported through federal and state sources. Data collection is only utilitarian as to the extent the data is applied to correct or rectify an identified shortcoming. Asking some of these data points may result in people not attending council events or decreased data results. It is recommended to focus more on qualitative stories. ACL should give clear instructions on how the information collected relates to the plan. We collect much more information than we need to develop the plan. If the optional sections aren't needed, they should be deleted from the plan template. States feel obligated to provide the information because it's there. Also, the national data sets usually come to states after we've started our public input. That data isn't typically a driving force of plan/goal development | ACL has conducted workgroups comprised of council staff to determine data sets and methods for collection. Training and technical assistance resources that describe what sections of the plan and data points are required versus optional will be shared again. ACL will continue to work with Councils to determine the effectiveness of data collection efforts and the results they provide.
State Plan (Commenter 1, 2) | While the intent of the Executive Orders to achieve equity and equality for LGBTQI individuals is vital, invasive, or highly personal demographic questions often elicit very low response rates. Survey respondents question as to why these questions are being asked at all, and if they are needed for the individual to obtain the services that they need. At times the terms and language used can be confusing for respondents. Each further question unrelated to the specific needs of the individual creates further mistrust with the interviewer or public survey process and adds an even greater time and work burden in adding new information into the State Plan | As ACL works to implement new SOGI policies, a workgroup with DD network grantees will be developed to establish guidance on how to effectively capture these data requirements.
State Plan (Commenter 1, 3) | Uploading data, formatting, entering graphs, tables, web addresses and symbols is difficult in the current reporting platform. Staff spend significant time getting data to fit within existing character limits. ACL should explore automated collection techniques when appropriate, and other forms of information technology to reduce burden | OIDD will explore platform capabilities as the commenters suggest (e.g., uploading, copy/pasting opportunities).
State Plan (Commenter 4) | There should not be subcategories that are added to create another indicator. Indicators should simply be the thing that is collected and reported —Instead of `better able to say what they need', indicator IFA 2.3 should be `has gained new skills and feels more empowered . . .' —IFA 2.4 and 2.5 can get confusing for reporting purposes. If there is a way to distinguish further, that would be helpful | Performance measures were previously vetted through a workgroup comprised of Council and Federal staff. ACL will explore opportunities to enhance guidance and plain language to further explain what is being asked for.
State Plan (Commenter 4) | When collecting Council, Staff, and grantee participant data, we recommend being able to report under Male, Female, “X” (instead of “Other”), which is consistent with new legislation in our state | We are following ACL guidance for collecting SOGI data and the instrument is updated to that effect.
State Plan (Commenter 4) | In Part A(i) “Racial and Ethnic Diversity of the State Population,” we would recommend adding “Middle Eastern” as a racial and ethnic group. It would be beneficial to be able to collect data racial/ethnic data on Middle Eastern population to make more visible any disparities they may experience. We would also recommend keeping “Two or more races” as one line without two additional subset lines (referring to “Two races including Some other race” and “Two races excluding Some other race, and three or more races”). Those additional 2 subset lines are very general and do not provide enough specificity to act on or respond to that data | We are following ACL guidance for collecting race and ethnicity data and the instrument is updated to that effect.

Estimated Program Burden: ACL estimates the burden of this collection of information as follows:

Respondent/data collection activity | Number of respondents | Responses per respondent | Hours per response | Total annual burden hours
State Councils on Developmental Disabilities State plan | 56 | 1 | 367 | 20,522
Total | 56 | 1 | 367 | 20,522

Dated: March 10, 2023.
Alison Barkoff,
Acting Administrator and Assistant Secretary for Aging.

[FR Doc. 2023-05326 Filed 3-15-23; 8:45 am]

BILLING CODE 4154-01-P